DEPARTMENT OF HOMELAND SECURITY

Federal Emergency Management Agency

[Docket ID FEMA-2011-0034; OMB No. 1660-0086]

Agency Information Collection Activities: Submission for OMB Review; Comment Request, National Flood Insurance Program-Mortgage Portfolio Protection Program

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before March 15, 2012.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATON:

Collection of Information

Title: National Flood Insurance Program-Mortgage Portfolio Protection Program.

OMB Number: 1660-0086.

Type of information collection: Revision of a currently approved information collection.

Abstract: A Write Your Own (WYO) company that wishes to participate in the Mortgage Portfolio Protection Program (MPPP) must review the information listed in the MPPP Agreement and complete the acknowledgement to participate in the MPPP or elect to continue under just the WYO guidelines. A lender wishing to obtain flood insurance through a MPPP participating insurance company must review the Financial Assistance/Subsidy Arrangement and acknowledge the terms so that they can properly apply for flood insurance thought this program.

Affected Public: Businesses or other non-profits.

Estimated Number of Respondents: 341.

Frequency of Response: Annually.

Estimated Average Hour Burden per Respondent: .5 hours.

Estimated Total Annual Burden Hours: 171 hours.

Estimated Cost: There are no record keeping, capital start-up, or maintenance cost associated with this information collection.

John G. Jenkins, Jr.,
Records Management Division, Office of Management, Federal Emergency Management Agency, Department of Homeland Security.

[FR Doc. 2012-3454 Filed 2-13-12; 8:45 am]

BILLING CODE 9110-11-P